DEPARTMENT OF STATE

[Public Notice: 12361]

International Joint Commission Reference To Address Water Pollution in the Elk-Kootenai/y Watershed

AGENCY: International Joint Commission, Department of State.

ACTION: Notice.

SUMMARY: By letters dated March 8, 2024, the Governments of Canada and the United States provided a reference to the International Joint Commission (IJC), requesting that the IJC undertake certain actions regarding the impacts of transboundary water pollution in the Elk Kootenai/y Watershed. In accordance with the reference, the IJC will: assist the Governments of the United States, Canada, and the Ktunaxa Nation, along with the States of Montana and Idaho and the Province of British Columbia, to establish a governance body and develop a Terms of Reference by June 30, 2024 and provide continued advice and assistance to that entity for a minimum of two years; and establish a study board within six months to conduct transparent and coordinated transboundary data and knowledge sharing to support a common understanding of pollution within the Elk-Kootenai/y watershed and the impacts of that pollution on people and species, culminating in a final report and recommendations, including recommendations of areas for further study, within two years after the establishment of the study board.

FOR FURTHER INFORMATION CONTACT: United States: Ed Virden, 202-372-7990, edward.virden@ijc.org; Canada: Paul Allen, 613-222-1475, paul.allen@ijc.org; General questions, comments, and requests to be added to the IJC mailing list: Elk-Kootenai/y_Study@ijc.org.

SUPPLEMENTARY INFORMATION: The International Joint Commission was organized in 1911 pursuant to article VII of the treaty of January 11, 1909, with Great Britain, 36 Stat. 2448. The IJC invites interested persons to request to be added to the IJC's mailing list to be kept updated on activities with respect to this reference. The IJC will seek opportunities for public engagement and will make its reports available in a transparent, publicly available format.

The Elk River rises in the Canadian Rockies and flows into the United States at Lake Koocanusa, an impoundment of the Kootenay/Kootenai River. It then flows through the states of Montana and Idaho, and Ktunaxa lands, in route back to the province of British Columbia.

The reference was provided to the IJC pursuant to Article IX of the Boundary Waters Treaty of 1909. Documents related to the reference can be found on the IJC website at: https://ijc.org/en/reference-elk-kootenaiy-watershed.

The International Joint Commission was established under the Boundary Waters Treaty of 1909 to help the United States and Canada prevent and resolve disputes over the use of the waters the two countries share. The Commission's responsibilities include investigating and reporting on issues of concern when asked by the governments of the two countries. For more information, visit the IJC website at ijc.org.

Susan E. Daniel,
Secretary, U.S. Section, International Joint Commission, Department of State.

[FR Doc. 2024-06368 Filed 3-25-24; 8:45 am]

BILLING CODE 4710-14-P